AGENCY FOR INTERNATIONAL DEVELOPMENT

Notice of Meeting

Pursuant to the Federal Advisory Committee Act, notice is hereby given of a meeting of the Advisory Committee on Voluntary Foreign Aid (ACVFA).

Date: Thursday, February 28, 2008 (9 a.m. to 3 p.m.)

Location: National Press Club Ballroom, 529 14th Street, NW., Washington, DC 20045.

Please note that this is the anticipated agenda and is subject to change.

Keynote: Henrietta H. Fore, USAID Administrator and Director of United States Foreign Assistance, will speak on the Global Development Commons, including its role as a driver of development and the link between economic growth and democratic governance. She will also provide an update on USAID's response to the ACVFA working groups' recommendations.

Democratic Governance and Economic Growth: An examination of what has worked successfully in democratic governance and economic growth programs will be discussed in two parts. Particular attention will be paid to those programs that have been or could be successfully replicated in other countries.

Cutting Edge Partnerships: Carol Adelman, ACVFA Vice Chair, will lead a discussion with representatives from the corporate, foundation, and end user communities on innovative partnerships that have stimulated economic growth and promoted good democratic governance. Speakers include Lauren Moser Counts with Shorebank, Corey Griffin with Microsoft Corporation, Donald F. Terry with the Inter-American Development Bank, Jennifer Hodgson with WINGS Global Fund for Community Foundations and a representative from Global Giving.

USAID's Lessons Learned: Discussion of successes and challenges countries that attain both democracy and high economic growth, with a specific focus on USAID's contributions. Possible countries may include Costa Rica, India, Botswana, Chile, and Estonia. The discussion will be moderated by Ted Weihe, ACVFA member, and panelists will include Simeon Djankov, with the World Bank, Chad Evans with the Council on Competitiveness, Mary Ott with USAID's Office of Economic Growth, Mary Ryckman with the Office of the U.S. Trade Representative, and Dorothy Taft with USAID's Office of Democracy and Governance.

Global Knowledge Sharing for Development: Knowledge management tools, including the Global Development Commons, will be discussed as to how they could benefit the variety of actors in democratic governance and economic growth. The discussion will be moderated by Judith Hermanson, ACVFA member, and panelists will include Steve Gale with USAID and representatives from academia and web portals.

The meeting is free and open to the public. Persons wishing to attend the meeting can register online at http://www.usaid.gov/about_usaid/acvfa or with Jenny Chun of the Hill Group at hkim@thehillgroup.com or 301-897-2789 ext. 115 or with Jocelyn Rowe at jrowe@usaid.gov or 202-712-4002.

Dated: February 6, 2008.
Jocelyn M. Rowe,
Executive Director, Advisory Committee on Voluntary, Foreign Aid (ACVFA), U.S. Agency for International Development.

[FR Doc. E8-2739 Filed 2-12-08; 8:45 am]

BILLING CODE 6116-01-P